DEPARTMENT OF LABOR

Employment and Training Administration

[TA-W-70,376]

Kaiser Aluminum Fabricated Products, LLC; Kaiser Aluminum-Greenwood Forge Division; Currently Known As Contech Forgings, LLC; Including On-Site Leased Workers From Staff Source, Precept Staffing, Esi And Kelly Services Greenwood, South Carolina; Amended Certification Regarding Eligibility To Apply or Worker Adjustment Assistance

In accordance with section 223 of the Trade Act of 1974, as amended (“Act”), 19 U.S.C. 2273, the Department of Labor issued a Certification of Eligibility to Apply for Worker Adjustment Assistance on October 2, 2009, applicable to workers of Kaiser Aluminum Fabricated Products, LLC, Kaiser Aluminum-Greenwood Forge Division, including on-site leased workers from Staff Source, Precept Staffing and ESA, Greenwood, South Carolina. The notice was published in the Federal Register on November 17, 2009 (74 FR 59254).

At the request of the State agency and a company official, the Department reviewed the certification for workers of the subject firm. The workers are engaged in the production of aluminum alloy forgings.

Information shows that on July 28, 2010, Revstone, Contech Division purchased Kaiser Aluminum—Greenwood Forge Division of Kaiser Aluminum Fabricated Products and is currently known as Contech Forgings LLC. Some workers separated from employment at the Kaiser Aluminum—Greenwood Forge Division of Kaiser Aluminum Fabricated Products, LLC had their wages reported under a separate unemployment insurance (UI) tax accounts for Contech Forgings LLC.

Accordingly, the Department is amending this certification to properly reflect this matter.

The intent of the Department's certification is to include all workers of the subject firm who were adversely affected as a secondary component supplier of aluminum alloy forgings to Chrysler.

The amended notice applicable to TA-W-70,380 is hereby issued as follows:

All workers of Kaiser Aluminum Fabricated Products, LLC, Kaiser Aluminum—Greenwood Forge Division, currently known as Contech Forgings, LLC, including on-site leased workers of Staff Source, Precept Staffing ESI, and Kelly Services, Greenwood, South Carolina, who became totally or partially separated from employment on or after May 19, 2008 through October 2, 2011, and all workers in the group threatened with total or partial separation from employment on date of certification through two years from the date of certification, are eligible to apply for adjustment assistance under Chapter 2 of Title II of the Trade Act of 1974, as amended.

Signed at Washington, DC this 10th day of November 2010.
Elliott S. Kushner,
Certifying Officer, Division of Trade Adjustment Assistance.

[FR Doc. 2010-29094 Filed 11-17-10; 8:45 am]

BILLING CODE P